DEPARTMENT OF ENERGY

Federal Energy Regulatory Commission

[Project No. 14552-004]

St. Anthony Hydro LLC; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 14552-004.

c. Date Filed: December 23, 2025.

d. Applicant: St. Anthony Hydro LLC.

e. Name of Project: St. Anthony Hydroelectric Project.

f. Location: On the Henry's Fork of the Snake River, in the city of St. Anthony, Fremont County, Idaho.

g. Filed Pursuant to: Federal Power Act, 16 U.S.C. 791(a)-825(r).

h. Applicant Contact: Peter Josten, GeoSense, LLC, 2742 Saint Charles Ave., Idaho Falls, ID 83404; telephone at (208) 339-3542; email at peter.gsense@gmail.com.

i. FERC Contact: Amy Chang, Project Coordinator, Northwest Branch, Division of Hydropower Licensing; telephone at (202) 502-6154; email at amy.chang@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: on or before 5:00 p.m. Eastern Time on February 23, 2026.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: St. Anthony Hydroelectric Project (P-14552-004).

m. The application is not ready for environmental analysis at this time.

n. The project consists of: (1) a 375.2-foot-long, 6.5-foot-high concrete overflow diversion dam with a crest elevation of 4,952 feet mean sea level; (2) a 41-foot-wide reinforced concrete intake structure; (3) a 35-foot-wide, 1,350-foot-long irrigation canal; (4) a 37-foot-wide, 24-foot-long trash rack with an automated debris removal rake system over the turbine bay; (5) a 38-foot-wide, 25-foot-long, 13.5-foot-high reinforced concrete turbine bay containing two Francis camelback turbine units; (6) a 36.5-foot-wide, 23-foot-long, 26.5-foot-high reinforced concrete powerhouse containing a 500-kilowatt generating unit; (7) a tailrace; (8) a 100-foot-long, 12.5-kilovolt overhead transmission line; and (9) appurtenant facilities.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-14552). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

p. For public inquiries and assistance with making filings such as interventions, comments, or requests for rehearing, contact the Office of Public Participation at (202) 502-6595 or OPP@ferc.gov.

q. Procedural Schedule: The application will be processed according to the following preliminary schedule. Revisions to the schedule will be made as appropriate.

Issue Deficiency Letter and Request Additional Information: February 2026.

Issue Notice of Application Accepted for Filing: June 2026.

Issue Notice of Scoping: June 2026.

Comments on Scoping: July 2026.

Issue Notice of Ready for Environmental Analysis: August 2026.

r. Final amendments to the application must be filed with the Commission no later than 30 days from the issuance date of the notice of ready for environmental analysis.

(Authority: 18 CFR 2.1)

Dated: January 5, 2026.
Carlos D. Clay,
Deputy Secretary.

[FR Doc. 2026-00141 Filed 1-7-26; 8:45 am]

BILLING CODE 6717-01-P